DEPARTMENT OF ENERGY

Federal Energy Regulatory Commission

[Docket No. ER02-2520-000, et al.]

Commonwealth Chesapeake Company, L.L.C., et al.; Electric Rate and Corporate Regulation Filings

September 6, 2002.

The following filings have been made with the Commission. The filings are listed in ascending order within each docket classification.

1. Commonwealth Chesapeake Company, L.L.C. [Docket No. ER02-2520-000]

Take notice that Commonwealth Chesapeake Company, L.L.C. (CCC), on August 30, 2002, tendered for filing, pursuant to Section 205 of the Federal Power Act (16 U.S.C. 824c), a rate schedule for reactive power provided to the Pennsylvania-New Jersey-Maryland Interconnection (PJM) transmission grid.

CCC requests and effective date of August 30, 2002.

Comment Date: September 20, 2002.

2. Southern California Edison Company

[Docket No. ER02-2521-000]

Take notice that on August 30, 2002, Southern California Edison Company (SCE) tendered for filing three unexecuted Service Agreements For Wholesale Distribution Service under SCE's Wholesale Distribution Access Tariff (Agreements) between SCE and the State of California Department of Water Resources (CDWR). The Agreements specify the terms and conditions under which SCE will provide wholesale Distribution Service from the California Independent System Operator Controlled Grid at SCE-owned substations to SCE/CDWR interconnections for three pumping stations.

SCE respectfully requests the Agreements become effective on August 10, 2002. Copies of this filing were served upon the Public Utilities Commission of the State of California and CDWR.

Comment Date: September 20, 2002.

3. PJM Interconnection, L.L.C.

[Docket No. ER02-2522-000]

Take notice that on August 30, 2002 PJM Interconnection, L.L.C. (PJM), submitted for filing an executed interim interconnection service agreement and two executed interconnection service agreements between PJM and Conectiv Delmarva Generation Inc. (Conectiv).

PJM requests a waiver of the Commission's 60-day notice requirement to permit the effective dates agreed to by the parties. Copies of this filing were served upon Conectiv and the state regulatory commissions within the PJM region.

Comment Date: September 20, 2002.

4. Florida Power & Light Company

[Docket No. ER02-2523-000]

Take notice that on August 30, 2002, Florida Power & Light Company (FPL) filed a notice of termination of the unexecuted Interconnection & Operation Agreement between FPL and Okeechobee Generating Company, LLC. FPL requests that the termination be made effective on the date of a Commission order accepting the notice of termination.

Comment Date: September 20, 2002.

5. PJM Interconnection, L.L.C.

[Docket No. ER02-2524-000]

Take notice that on August 30, 2002, PJM Interconnection, L.L.C. (PJM) submitted for filing an executed interconnection service agreement between PJM and Exelon Corporation.

PJM requests a waiver of the Commission's 60-day notice requirement to permit the effective date agreed to by the parties. Copies of this filing were served upon Exelon Corporation an the state regulatory commissions within the PJM region.

Comment Date: September 20, 2002.

6. PJM Interconnection, L.L.C.

[Docket No. ER02-2525-000]

Take notice that on August 30, 2002, PJM Interconnection, L.L.C. (PJM) tendered for filing signature pages to the Reliability Assurance Agreement among Load Serving Entities in the PJM Control Area (RAA) for Con Edison Energy, Inc., DTE Energy Trading, Inc., Duke Energy Trading and Marketing, L.L.C., MIECO, Inc., NRG New Jersey Energy Sales LLC, and PSEG Energy Resources & Trade LLC,. PJM also filed a Second Revised Sheet No. 61 and a Third Revised Sheet No. 62 of the RAA including the entities listed above in the list of parties to the RAA.

Copies of this filing were served upon all parties to the RAA, including Con Edison Energy, Inc., DTE Energy Trading, Inc., Duke Energy Trading and Marketing, L.L.C., MIECO, Inc., NRG New Jersey Energy Sales LLC, and PSEG Energy Resources & Trade LLC, and each of the state electric utility regulatory commissions within the PJM Control Area.

Comment Date: September 20, 2002.

7. New York Independent System Operator, Inc. [Docket No. ER02-2526-000]

Take notice that on August 30, 2002, the New York Independent System Operator, Inc. (NYISO) filed revisions to Attachment F of its Open Access Transmission Tariff (OATT) to deal with “Insider Trading.”

The NYISO has requested an effective date of October 30, 2002 for the filing. The NYISO has served a copy of this filing upon all parties that have executed service agreements under the NYISO's Open Access Transmission Tariff or the Market Administration and Control Area Services Tariff and upon the New York State Public Service Commission.

Comment Date: September 20, 2002.

8. Michigan Electric Transmission Company, LLC

[Docket No. ER02-2527-000]

Take notice that on August 30, 2002, Michigan Electric Transmission Company, LLC (Michigan Transco LLC) filed revisions to a Generator Interconnection and Operating Agreement between itself and Mirant Zeeland, LLC (Mirant). Michigan Transco LLC states that the purposes of these revisions to reflect the fact that an interconnecting generator with a higher queue position has canceled its project, thus reducing certain costs associated with the instant Agreement, and allowing certain upgrades to be completed earlier, and to reflect Michigan Transco LLC's acquisition of the transmission system formerly owned by Michigan Electric Transmission Company.

A copy of this filing was served on Mirant.

Comment Date: September 20, 2002.

9. New England Power Company

[Docket No. ER02-2528-000]

Take notice that on August 30, 2002, New England Power Company filed an executed amended and restated power sales contract with Unitil Power Corp. This filing was served upon Unitil and on the New Hampshire Public Utilities Commission.

Comment Date: September 20, 2002.

10. New England Power Company

[Docket No. ER02-2529-000]

Take notice that on August 30, 2002, New England Power Company filed an executed amended and restated power sales contract with Unitil Power Corp. This filing was served upon Unitil and on the New Hampshire Public Utilities Commission.

Comment Date: September 20, 2002.

11. Midwest Independent Transmission System Operator, Inc. [Docket No. ER02-2530-000]

Take notice that on August 30, 2002, pursuant to Section 205 of the Federal Power Act and Section 35.12 of the Commission's regulations, 18 CFR 35.12 (2001), the Midwest Independent Transmission System Operator, Inc. (Midwest ISO) submitted for filing an Interconnection and Operating Agreement among the Rainy River Energy Corporation—Wisconsin, the Midwest ISO and Superior Water, Light & Power Company.

A copy of this filing was sent to the Rainy River Energy Corporation—Wisconsin and Superior Water, Light & Power Company.

Comment Date: September 20, 2002.

12. American Electric Power Service Corporation

[Docket No. ER02-2531-000]

Take notice that on August 30, 2002, the American Electric Power Service Corporation (AEPSC), tendered for filing Firm and Non-firm Point-to-Point (PTP) Transmission Service Agreements for Conoco Inc. and Specifications for Long-Term Firm PTP Transmission Service for AEPSC's Wholesale Power Merchant Organization, American Municipal Power—Ohio, Inc. and Constellation Power Source, Inc. These agreements are pursuant to the AEP Companies' Open Access Transmission Tariff (OATT) that has been designated as the Operating Companies of the American Electric Power System FERC Electric Tariff Third Revised Volume No. 6.

AEPSC requests waiver of notice to permit the Specifications for Long-Term Firm PTP Transmission Service to be effective on and after June 1, 2002, and the new Firm and Non-Firm PTP Service Agreements for Conoco, Inc. to be effective on and after August 5, 2002.

AEPSC requests termination of two transmission service agreements with Sonat Power Marketing, L.P. originally made under the Central and Southwest Company's OATT. Termination is requested as of July 1, 2002, for a Non-Firm Transmission Service Agreement executed January 1, 1997, and termination is requested as of October 1, 2002 for a Transmission Service Agreement executed March 27, 1997. El Paso Merchant Energy, L.P., successor to the Sonat business, requested the termination of the transmission service agreements.

A copy of the filing was served upon the Parties and the state utility regulatory commissions of Arkansas, Indiana, Kentucky, Louisiana, Michigan, Ohio, Oklahoma, Tennessee, Texas, Virginia and West Virginia.

Comment Date: September 20, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-23453 Filed 9-13-02; 8:45 am]

BILLING CODE 6717-01-P